DEPARTMENT OF DEFENSE

Office of the Secretary

[Transmittal No. 24-110]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-110, Policy Justification, and Sensitivity of Technology.

Dated: January 13, 2026.
Stephanie J. Bost,
Alternate OSD Federal Register Liaison Officer, Department of Defense.

BILLING CODE 6001-FR-P

BILLING CODE 6001-FR-C

Transmittal No. 24-110

Notice of Proposed Issuance of Letter of Offer Pursuant to Section 36(b)(1) of the Arms Export Control Act, as amended

(i) Prospective Purchaser: Government of Romania

(ii) Total Estimated Value:

Major Defense Equipment * | $41 million
Other | $43 million
TOTAL | $84 million

Funding Source: National Funds

(iii) Description and Quantity or Quantities of Articles or Services under Consideration for Purchase:

Major Defense Equipment (MDE):

Four hundred (400) Guided Bomb Unit (GBU)-39B Small Diameter Bombs (SDB-I)

Two (2) GBU-39 (T-1)/B inert practice bombs with fuze

Non-Major Defense Equipment:

The following non-MDE items will also be included: GBU-39 tactical training rounds; Common Munitions Built-In-Test (BIT)/Reprogramming Equipment (CMBRE); ADU-890E Computer Test Set Adapter Groups; containers, weapons system support, and support and test equipment; training aids, devices, and spare parts; consumables and accessories, and repair and return support; publications and technical data; personnel training and training equipment; warranties; transportation support; site surveys; United States (U.S.) Government and contractor engineering, logistics, and technical support services; and other related elements of logistics and program support.

(iv) Military Department: Air Force (RO-D-YAB)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: February 18, 2025

* as defined in Section 47(6) of the Arms Export Control Act

POLICY JUSTIFICATION

Romania—GBU-39B Small Diameter Bombs

The Government of Romania has requested to buy four hundred (400) Guided Bomb Unit (GBU)-39B Small Diameter Bombs (SDB-I), and two (2) GBU-39 (T-1)/B inert practice bombs with fuze. The following non-MDE items will also be included: GBU-39 tactical training rounds; Common Munitions Built-In-Test (BIT)/Reprogramming Equipment (CMBRE); ADU-890E Computer Test Set Adapter Groups; containers, weapons system support, and support and test equipment; training aids, devices, and spare parts; consumables and accessories, and repair and return support; publications and technical data; personnel training and training equipment; warranties; transportation support; site surveys; U.S. Government and contractor engineering, logistics, and technical support services; and other related elements of logistics and program support. The estimated total cost is $84 million.

This proposed sale will support the foreign policy goals and national security objectives of the U.S. by improving the security of a NATO Ally that is an important force for political and economic stability in Europe.

This proposed sale will improve Romania's capability to meet current and future threats by increasing its ability to deter and defend against all threats and to participate in NATO coalition air operations. Romania will have no difficulty absorbing these articles and services into its armed forces.

The proposed sale of this equipment and support will not alter the basic military balance in the region.

The principal contractor will be The Boeing Company, located in St. Louis, MO. At this time, the U.S. Government is not aware of any offset agreement proposed in connection with this potential sale. Any offset agreement will be defined in negotiations between the purchaser and the contractor.

Implementation of this proposed sale will not require the assignment of any additional U.S. Government or contractor representatives to Romania.

There will be no adverse impact on U.S. defense readiness as a result of this proposed sale.

Transmittal No. 24-110

Notice of Proposed Issuance of Letter of Offer Pursuant to Section 36(b)(1) of the Arms Export Control Act

Annex

Item No. vii

(vii) Sensitivity of Technology:

1. The Guided Bomb Unit (GBU)-39 Small Diameter Bomb Increment 1 (SDB-I) All Up Round (AUR) is a 250-pound GPS-aided conventional air-to-ground precision glide weapon with an inertial navigation system and small autonomous, day or night, and adverse weather capabilities able to strike fixed and stationary targets from standoff ranges. It is intended to provide aircraft with an ability to carry a high number of bombs. Aircraft are able to carry four SDBs in place of one 2,000-pound bomb.

2. The GBU-39/B inert practice bombs with fuze are identical to a live tactical weapon except that the live warhead is replaced with an inert fill. These bombs are suited for training missions where a flight termination system or collection of telemetry data is not a necessity.

3. Common Munitions Built-In-Test (BIT)/Reprogramming Equipment (CMBRE) is support equipment used to interface with weapon systems to initiate and report BIT results, and upload and download flight software. CMBRE supports multiple munitions platforms with a range of applications that perform preflight checks, periodic maintenance checks, loading of Operational Flight Program (OFP) data, loading of munitions mission planning data, loading of Global Positioning System (GPS) cryptographic keys, and declassification of munitions memory.

4. The ADU-891 Adapter Group Test Set provides the physical and electrical interface between the CMBRE and the bomb.

5. The highest level of classification of defense articles, components, and services included in this potential sale is SECRET.

6. If a technologically advanced adversary were to obtain knowledge of the specific hardware and software elements, the information could be used to develop countermeasures that might reduce system effectiveness or be used in the development of a system with similar or advanced capabilities.

7. A determination has been made that Romania can provide substantially the same degree of protection for the sensitive technology being released as the U.S. Government. This sale is necessary in furtherance of the U.S. foreign policy and national security objectives outlined in the Policy Justification.

8. All defense articles and services listed in this transmittal have been authorized for release and export to the Government of Romania.

[FR Doc. 2026-00768 Filed 1-15-26; 8:45 am]

BILLING CODE 6001-FR-P